DEPARTMENT OF THE TREASURY

Submission for OMB Review; Comment Request

July 23, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before August 28, 2009 to be assured of consideration.

Office of Foreign Assets Control

OMB Number: 1505-0164.

Type of Review: Extension.

Title: Reporting and Procedures Regulations 31 CFR part 501.

Form: TD-F-90-22.50.

Description: Submissions will provide the U.S. Government with information to be used in enforcing various economic sanctions programs administered by OFAC under 31 CFR Chapter V.

Respondents: Individuals or households.

Estimated Total Reporting Burden: 26,300 hours.

Clearance Officer: Stephanie Petersen, (202) 622-0596, Treasury Annex, Room 2141, Washington, DC 20220.

OMB Reviewer: OIRA Desk Officer, Office of Management and Budget, Room 10235, New Executive Office Building, Washington, DC 20503, oira_submission@omb.eop.gov.

Robert Dahl,
Treasury PRA Clearance Officer.

[FR Doc. E9-18114 Filed 7-28-09; 8:45 am]

BILLING CODE 4810-25-P